ENVIRONMENTAL PROTECTION AGENCY

40 CFR Part 52

[AK-02-001; FRL-7253-4]

Approval and Promulgation of Carbon Monoxide Implementation Plan; State of Alaska; Anchorage

AGENCY: Environmental Protection Agency.

ACTION: Final rule.

SUMMARY: The Environmental Protection Agency (EPA) is approving a State Implementation Plan (SIP) revision submitted by the State of Alaska that concerns attainment of the carbon monoxide (CO) national ambient air quality standards (NAAQS) in the Anchorage CO Nonattainment Area.

EFFECTIVE DATE: This final rule will become effective on October 18, 2002.

ADDRESSES: Copies of the documents relevant to this action are available for inspection during normal business hours at the following locations: EPA, Region 10, Office of Air Quality (OAQ-107), 1200 Sixth Avenue, Seattle, Washington 98101, and the Alaska Department of Environmental Conservation, 410 Willoughby Avenue, Suite 303, Juneau, Alaska 99801-1795.

FOR FURTHER INFORMATION CONTACT: Connie Robinson, Office of Air Quality (OAQ-107), EPA, Region 10, 1200 Sixth Avenue, Seattle, Washington 98101, (206) 553-1086.

SUPPLEMENTARY INFORMATION: Throughout this document, wherever “we,” “us,” or “our” is used, we mean EPA. Information on the revisions to the carbon monoxide attainment plan for Anchorage, Alaska is organized as follows:

I. Background Information

II. Final Action

III. Administrative Requirements

I. Background Information

This action finalizes EPA's approval of the Anchorage CO attainment plan submitted by the Alaska Department of Environmental Conservation as a revision to the Alaska State Implementation Plan on January 4, 2002. A detailed description of the Anchorage CO attainment plan and EPA's review was published in a proposed rulemaking in the Federal Register on June 3, 2002 (67 FR 38218). EPA received no comments on the proposed approval.

II. Final Action

EPA is approving the following elements of the Anchorage CO Attainment plan submitted on January 4, 2002:

A. Procedural requirements, under section 110(a)(1) of the Act;

B. Base year emission inventory, periodic emission inventory and commitments under sections 187(a)(1) and 187(a)(5) of the Act;

C. Attainment demonstration, under section 187(a)(7) of the Act;

D. The TCM programs under 182(d)(1) and 108(f)(1)(A) of the Act;

E. Contingency measures under section 187(a)(3) of the Act;

F. RFP demonstration, under sections 171(1) and 172(c)(2) of the Act; and

G. The conformity budget under section 176(c)(2)(A) of the Act and section 93.118 of the transportation conformity rule (40 CFR Part 93, Subpart A).

III. Administrative Requirements

Under Executive Order 12866 (58 FR 51735, October 4, 1993), this action is not a “significant regulatory action” and therefore is not subject to review by the Office of Management and Budget. For this reason, this action is also not subject to Executive Order 13211, “Actions Concerning Regulations That Significantly Effect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by November 18, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Intergovernmental relations, Reporting and recordkeeping requirements.

Dated: July 23, 2002.
L. John Iani,
Regional Administrator, Region 10.

Part 52, chapter I, title 40 of the Code of Federal Regulations is amended as follows:

PART 52—[AMENDED]

1. The authority citation for Part 52 continues to read as follows:

Authority: 42 U.S.C. 7401 et seq.

Subpart C—Alaska

2. Subpart C is amended by adding § 52.73 to read as follows:

§ 52.73 Approval of plans.

(a) Carbon monoxide.

(1) Anchorage.

(i) EPA approves as a revision to the Alaska State Implementation Plan, the Anchorage Carbon Monoxide Attainment Plan (Volume II, Section III.B of the State Air Quality Control Plan adopted December 20, 2001, effective January 27, 2002 and Volume III.B.3, III B.10 and III.B11, III B.12 of the Appendices adopted December 20, 2001, effective January 27, 2002) submitted by the Alaska Department of Environmental Conservation on January 4, 2002.

(ii) [Reserved]

(2) Fairbanks. [Reserved]

(b) Lead. [Reserved]

(c) Nitrogen dioxide. [Reserved]

(d) Ozone. [Reserved]

(e) Particulate matter. [Reserved]

(f) Sulfur dioxide. [Reserved]

[FR Doc. 02-23083 Filed 9-17-02; 8:45 am]

BILLING CODE 6560-50-P